DEPARTMENT OF AGRICULTURE

Forest Service

Notice of Intent To Prepare an Environmental Impact Statement

AGENCY: Forest Service, Rio Grande National Forest, USDA.

ACTION: Notice of intent to prepare an environmental impact statement.

SUMMARY: The USDA Forest Service (FS), Rio Grande National Forest will prepare an environmental impact statement (EIS) on the submission of an Application For Transportation and Utility Systems and Facilities on Federal Lands (Application) by the Leavell-McCombs Joint Venture. This Application, if authorized, would permit a perpetual easement for year-round permanent road access, obtain or modify utility easements, and modify easement terms for Alberta Lake access for the proposed Village at Wolf Creek (Village). The Village is a resort community proposed for construction and operation solely within 287.5-acres of privately owned land located entirely within the Rio Grande National Forest adjacent to Wolf Creek Ski Area. The road would cross national forest lands from Colorado State Highway 160 to the Village's private in-holdings. Similarly, the utilities easements would cross FS land to provide the necessary infrastructure to serve the future Village residents and businesses. The modification of the existing private lands easement terms for Alberta Lake access is proposed to better accommodate the Village design and to create improved public access to national forest lands. Without the permanent road easement and utilities easements the Village could not be accessed nor supplied with the necessary infrastructure to support its' construction or operation.

The FS invites written comments and suggestions on the scope of the analysis. The FS also hereby gives notice of the environmental analysis and decision-making process that will occur on the proposal so interested and affected people are aware of how they may participate and contribute to the final decision.

DATES: Comments concerning the scope of the proposed project must be received no later than April 5, 2004.

ADDRESSES: Send written comments to Mr. Stephen Brigham, NEPA Coordinator, USDA-FS, Rio Grande National Forest, Divide Ranger District, 13308 West Hwy 160, Del Norte, CO 81132. Electronic mail (e-mail) may be sent to sbrigham@fs.fed.us and a Fax may be sent to (719) 657-6035.

FOR FURTHER INFORMATION CONTACT: Stephen Brigham, NEPA Coordinator, Divide Ranger District, (719) 657-3321. Refer to Supplementary Information regarding public disclosure of submitted comment information.

SUPPLEMENTARY INFORMATION: The Wolf Creek Ski Area and the general Mineral County area are not served by lodging facilities or overnight accommodations on the mountain at Wolf Creek Ski Area. The nearest lodgings are near South Fork or Pagosa Springs, CO, which are more than a 20-minute drive east or west at the base of Wolf Creek Pass. Approval of the Application would result in the ultimate construction and operation of the Village. The Village would provide for year-round guest accommodations and services adjacent to the ski area on the 287.5-acre site.

On May 14, 1987, the FS conveyed to the Leavell-McCombs Joint Venture 287.5-acres of property, the proposed location of the Village, in exchange for property in Saguache County, Colorado. The 287.5-acres is entirely surrounded by Federal lands; a condition that was recognized at the time the land exchange was approved. During the land exchange negotiations it was understood that the Leavell-McCombs Joint Venture would eventually develop the 287.5-acres for uses compatible with the existing Wolf Creek Ski Area and such development would be regulated by Federal, state, and Mineral County agencies with jurisdiction. As a condition of approval, the Regional Forester specifically required that the FS retain an easement to “assure that development of the Federal land conveyed would be compatible with the Wolf Creek Ski Area. The Leavell-McCombs Joint Venture is now prepared to develop the Village on their 287.5-acre in-holding and requires road and utility access to the land.”

The permanent road easement would allow the construction and operation of an all weather, year-round access road that would not exceed 2,350 feet in length or a width greater than 60 feet. The road would be constructed to FS specifications and approximately 30 feet in width. Vehicle traffic would consist of passenger vehicles, buses, and other vehicles and transport necessary to develop, construct, operate, and support the residents and businesses associated with the Village. The Application would also grant two 10-foot wide and two 20-foot wide permanent utility easements for the installation, operation, maintenance, repair, and replacement of electrical transmission lines and facilities; television cables, communication cables and lines, fiber optic lines, and other utilities as required to serve the Village. An additional component of the Application is an amendment to the easement granted to the FS for an alternative public access route to Alberta Lake.

Proposed Action: The Leavell-McCombs Joint Venture has submitted an Application to the FS for approval. Application approval by the FS would grant a perpetual easement for the construction and permanent operation of a year-round all weather road, four permanent utility easements, and an alternative route across Village property for public access to Alberta Lake. Consequently, the 287.5-acres of Leavell-McCombs Joint Venture lands would be available for development.

The responsible Official is the Forest Supervisor, Rio Grande National Forest, 1803 West Highway 160, Monte Vista, CO 81132. The National Environmental Policy Act (NEPA) decision to be made by the FS official is whether or not to authorize the Application For Transportation and Utility Systems and Facilities on Federal Lands as proposed by the Leavell-McCombs Joint Venture, or alternatives to the proposed roadway and utilities easements. FS alternatives would include the No-Action Alternative, which in effect is a FS denial of the Application.

The scoping process will include public meetings and interaction with various Federal, State, and local agencies. Information regarding the place and time of the public scoping meetings will be announced in area media, as well as posted on the FS Rio Grande National Forest Internet site [http//www.fs.fed.us./r2/riogrande/]. Scoping meetings are expected to occur during the week of March 15, 2004. Scoping meetings will be held in Creede, Pagosa Springs, and South Fork, CO. Additional public meetings will be held once the Draft EIS is available for review.

Preliminary issues include the following:

• Impacts to the socioeconomic structure in the region.

• Impacts to water resources.

• Impacts to existing infrastructure (road capacities and power utilities and capacities).

• Impacts to terrestrial and aquatic habitats and species.

• Impacts to recreation use, as well as, the scenic resources associated with the area.

In addition to evaluating these preliminary issues, the environmental evaluation will assess the potential effects from the proposed project on minority and low-income populations. The cumulative impacts of the FS decision are expected to be a substantial part of the impacts analysis.

In addition to the FS Application, other agencies also have requirements to fulfill prior to implementation of the Proposed Action. Requirements include:

• Compliance with Section 7 of the Endangered Species Act that will entail the submission of a Biological Assessment to the US Fish and Wildlife Service.

• Compliance with Section 106 of the National Historic Preservation Act.

• Compliance with Section 404 of the Clean Water Act and obtaining a Nation Pollution Prevention Discharge Elimination System Permit.

• Final Plat approval for the Mineral County Public Utilities Department.

Comments Requested

This Notice of Intent initiates the scoping process that guides the development of the EIS. The FS invites written comments and suggestions on the proposed action, including any issues to consider, as well as any concerns relevant to the analysis. In order to be most useful, scoping comments should be received within 45 days of publication of this Notice of Intent. Comments received in response to this notice, including names and addresses of those who comment, will be considered part of the public record on this Proposed Action and will be available for public inspection. If you wish to withhold your name or street address from public review or from disclosure under the Freedom of Information Act (FOIA), you must state this prominently at the beginning of your written comment. Such requests will be honored to the extent allowed by law, but persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days. All submissions from organizations and business, and from individuals identifying themselves as representatives or officials of organizations or businesses, will be available for public inspection in their entirety. Comments submitted anonymously will be accepted and considered; however, those who submit anonymous comments will not have standing to appeal the subsequent decision under 36 CFR part 215. Upon completion of the Draft EIS the document will be provided to the public for review and comment. Comments and FS responses will be addressed and contained in the Final EIS.

Dated: February 13, 2004.
Peter L. Clark,
Forest Supervisor.

[FR Doc. 04-3677 Filed 2-19-04; 8:45 am]

BILLING CODE 3410-11-M